DEPARTMENT OF TRANSPORTATION

Federal Aviation Administration

14 CFR Part 39

[Docket No. FAA-2005-22070; Directorate Identifier 2005-NE-23-AD; Amendment 39-14218; AD 2005-16-12]

RIN 2120-AA64

Airworthiness Directives; Rolls-Royce Deutschland Ltd & Co KG (formerly Rolls-Royce Deutschland GmbH, formerly BMW Rolls-Royce GmbH) Model BR700-715A1-30, BR700-715B1-30, and BR700-715C1-30 Turbofan Engines

AGENCY: Federal Aviation Administration (FAA), DOT.

ACTION: Final rule; request for comments.

SUMMARY: The FAA is adopting a new airworthiness directive (AD) for Rolls-Royce Deutschland Ltd & Co KG (RRD) (formerly Rolls-Royce Deutschland GmbH, formerly BMW Rolls-Royce GmbH) model BR700-715A1-30, BR700-715B1-30, and BR700-715C1-30 turbofan engines. This AD requires a onetime inspection of the Independent Overspeed Protection (IOP) unit, part number (P/N) 112E9321G2, for 19 specific serial numbers (SNs), and removal from service of those units. This AD results from a report that incorrect capacitors were installed in 19 IOP units. The incorrect capacitor in the IOP unit can lead to an inadvertent IOP command resulting in an in-flight engine shutdown. We are issuing this AD to prevent inadvertent dual-engine in-flight shutdown.

DATES: Effective August 26, 2005.

We must receive any comments on this AD by October 11, 2005.

ADDRESSES: Use one of the following addresses to comment on this AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

Contact Rolls-Royce Deutschland Ltd & Co KG, Eschenweg 11, 15827 Blankenfelde-Mahlow, Germany, telephone: 011 49 (0) 33-7086-1768, fax: 011 49 (0) 33-7086-3356 for the service information identified in this AD.

FOR FURTHER INFORMATION CONTACT: Jason Yang, Aerospace Engineer, Engine Certification Office, FAA, Engine and Propeller Directorate, 12 New England Executive Park, Burlington, MA 01803-5299; telephone: (781) 238-7747, fax: (781) 238-7199.

SUPPLEMENTARY INFORMATION: The Luftfahrt-Bundesamt (LBA), which is the airworthiness authority for Germany, recently notified us that an unsafe condition may exist on RRD model BR700-715A1-30, BR700-715B1-30, and BR700-715C1-30 turbofan engines. The LBA advises that the supplier of the IOP unit informed RRD that incorrect capacitors were installed in 19 IOP units, P/N 112E9321G2. The incorrect capacitor in the IOP unit can lead to an inadvertent IOP command and an in-flight engine shutdown. If both engines of an airplane have an affected IOP unit, inadvertent dual-engine in-flight shutdown could occur. The LBA issued airworthiness directive D-2005-221, dated June 17, 2005, in order to ensure the airworthiness of these engines in Germany.

Bilateral Airworthiness Agreement

These model BR700-715A1-30, BR700-715B1-30, and BR700-715C1-30 turbofan engines are manufactured in Germany and are type certificated for operation in the United States under the provisions of section 21.29 of the Federal Aviation Regulations (14 CFR 21.29) and the applicable bilateral airworthiness agreement. Under this bilateral airworthiness agreement, the LBA kept the FAA informed of the situation described above. We have examined the findings of the LBA, reviewed all available information, and determined that AD action is necessary for products of this type design that are certificated for operation in the United States.

FAA's Determination and Requirements of This AD

The unsafe condition described previously is likely to exist or develop on other model BR700-715A1-30, BR700-715B1-30, and BR700-715C1-30 turbofan engines of the same type design. We are issuing this AD to prevent inadvertent dual-engine in-flight shutdown. This AD requires:

• Within 10 flight cycles after the effective date of the AD, inspection of each engine's IOP unit, part number 112E9321G2, for the affected serial numbers; and

• If neither engine has an IOP unit listed in Table 1 of this AD, no further action is required; and

• If both engines have IOP units listed in Table 1 of this AD installed, remove at least one of the IOP units from service before further flight.

• If one engine has an IOP unit listed in Table 1 of this AD, remove the listed IOP from service no later than August 31, 2005.

FAA's Determination of the Effective Date

Since an unsafe condition exists that requires the immediate adoption of this AD, we have found that notice and opportunity for public comment before issuing this AD are impracticable, and that good cause exists for making this amendment effective in less than 30 days.

Comments Invited

This AD is a final rule that involves requirements affecting flight safety and was not preceded by notice and an opportunity for public comment; however, we invite you to send us any written relevant data, views, or arguments regarding this AD. Send your comments to an address listed under ADDRESSES. Include “AD Docket No. FAA-2005-22070; Directorate Identifier 2005-NE-23-AD” in the subject line of your comments. We specifically invite comments on the overall regulatory, economic, environmental, and energy aspects of the rule that might suggest a need to modify it.

We will post all comments we receive, without change, to http://dms.dot.gov, including any personal information you provide. We will also post a report summarizing each substantive verbal contact with FAA personnel concerning this AD. Using the search function of the Docket Management System (DMS) Web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the AD, any comments received, and any final disposition in person at the DMS Docket Office between 9 a.m. and 5 p.m., Monday through Friday, except Federal holidays. The Docket Office (telephone (800) 647-5227) is located on the plaza level of the Department of Transportation Nassif Building at the street address stated in ADDRESSES. Comments will be available in the AD docket shortly after the Docket Office receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES.

List of Subjects in 14 CFR Part 39

Air transportation, Aircraft, Aviation safety, Safety.

Adoption of the Amendment

Under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2005-16-12 Rolls-Royce Deutschland Ltd & Co KG (formerly Rolls-Royce Deutschland GmbH, formerly BMW Rolls-Royce GmbH): Amendment 39-14218. Docket No. FAA-2005-22070; Directorate Identifier 2005-NE-23-AD.

Effective Date

(a) This airworthiness directive (AD) becomes effective August 26, 2005.

Affected ADs

(b) None.

Applicability

(c) This AD applies to Rolls-Royce Deutschland Ltd & Co KG (RRD) (formerly Rolls-Royce Deutschland GmbH, formerly BMW Rolls-Royce GmbH) model BR700-715A1-30, BR700-715B1-30, and BR700-715C1-30 turbofan engines. These engines are installed on, but not limited to, McDonnell Douglas model 717-200 airplanes.

Unsafe Condition

(d) This AD results from a report that incorrect capacitors were installed in 19 Independent Overspeed Protection (IOP) units. The incorrect capacitor in the IOP unit can lead to an inadvertent IOP command resulting in an in-flight engine shutdown. We are issuing this AD to prevent inadvertent dual-engine in-flight shutdown.

Compliance

(e) You are responsible for having the actions required by this AD performed within the compliance times specified unless the actions have already been done.

Onetime Inspection

(f) Within 10 flight cycles after the effective date of this AD, inspect each engine's IOP unit, part number 112E9321G2, for the serial numbers listed in the following Table 1:

Table 1.—Affected IOP Unit Serial Numbers
LHBR0371 | LHBR0372 | LHBR0373 | LHBR0374 | LHBR0375 | LHBR0376
LHBR0377 | LHBR0378 | LHBR0379 | LHBR0380 | LHBR0381 | LHBR0382
LHBR0383 | LHBR0384 | LHBR0385 | LHBR0386 | LHBR0387 | LHBR0388
LHBR0389

(g) If neither engine has an IOP unit listed in Table 1 of this AD, no further action is required.

(h) If both engines have IOP units listed in Table 1 of this AD installed, remove at least one of the IOP units from service before further flight.

(i) If one engine has an IOP unit listed in Table 1 of this AD, remove the listed IOP from service no later than August 31, 2005.

(j) After the effective date of this AD, do not install any IOP units listed in Table 1 of this AD onto any engine.

Alternative Methods of Compliance

(k) The Manager, Engine Certification Office, has the authority to approve alternative methods of compliance for this AD if requested using the procedures found in 14 CFR 39.19.

Related Information

(l) LBA airworthiness directive D-2005-221, dated June 17, 2005, and RRD Alert Service Bulletin No. SB-BR700-73-A900371, dated June 17, 2005, also address the subject of this AD.

Issued in Burlington, Massachusetts, on August 5, 2005.
Jay J. Pardee,
Manager, Engine and Propeller Directorate, Aircraft Certification Service.

[FR Doc. 05-15895 Filed 8-10-05; 8:45 am]

BILLING CODE 4910-13-P